GENERAL SERVICES ADMINISTRATION

[Notice-ID-2023-04; Docket No. 2023-0002; Sequence No. 10]

Privacy Act of 1974; System of Records

AGENCY: Office of the Chief Privacy Officer, General Services Administration, (GSA).

ACTION: Rescindment of a system of records notice.

SUMMARY: Pursuant to the Privacy Act of 1974, notice is hereby given that GSA proposes to rescind the GSA/CIO-2 Enterprise Server Services (ESS) SORN. The ESS no longer maintains any Personally Identifiable Information (PII). GSA's replacement for ESS migrated all subsystems to the new Enterprise Infrastructure Operations (EIO) system and those elements were placed as subsystems to the Enterprise Infrastructure Operations (EIO).

DATES: Submit comments on or before April 13, 2023.

ADDRESSES: Submit comments by any of the following methods:

• Regulations.gov: http://www.regulations.gov. Search for ID-2023-04, Rescindment of a System of Records Notice. Select the link “Comment Now” that corresponds with “ID-2023-04, Rescindment of a System of Records Notice.” Follow the instructions provided on the screen. Please include your name, company name (if any), and “ID-2023-04, Rescindment of a System of Records Notice” on your attached document.

• By email to the GSA Privacy Act Officer: gsa.privacyact@gsa.gov.

• By mail to: Privacy Office (IDE), GSA, 1800 F Street NW, Washington, DC 20405.

FOR FURTHER INFORMATION CONTACT: Call or email Richard Speidel, the GSA Chief Privacy Officer: telephone 202-969-5830; email gsa.privacyact@gsa.gov.

SUPPLEMENTARY INFORMATION: Enterprise Server Services (ESS)system was migrated from all ESS subsystems to the new Enterprise Infrastructure Operations (EIO) system and those elements being placed as subsystems to the Enterprise Infrastructure Operations (EIO). For more information, refer to this link below: https://www.govinfo.gov/content/pkg/FR-2011-08-10/pdf/2011-20271.pdf.

SYSTEM NAME AND NUMBER:

GSA/CIO-2 Enterprise Server Services (ESS).

HISTORY:

73 FR 22389.

Richard Speidel,
Chief Privacy Officer, Office of the Deputy Chief Information Officer, General Services Administration.

[FR Doc. 2023-05193 Filed 3-13-23; 8:45 am]

BILLING CODE 6820-34-P